ENVIRONMENTAL PROTECTION AGENCY

[EPA-R08-OAR-2023-0412; FRL-11163-01-R8]

Proposed Information Collection Request; Comment Request; Federal Implementation Plan for Oil and Natural Gas Well Production Facilities, Fort Berthold Indian Reservation (Mandan, Hidatsa and Arikara Nation), North Dakota (Renewal)

AGENCY: Environmental Protection Agency (EPA).

ACTION: Notice.

SUMMARY: The Environmental Protection Agency is planning to submit an information collection request (ICR), “Federal Implementation Plan for Oil and Natural Gas Well Production Facilities, Fort Berthold Indian Reservation (Mandan, Hidatsa, and Arikara Nation), North Dakota (Renewal)” (EPA ICR No. 2478.04, OMB Control No. 2008-0001), to the Office of Management and Budget (OMB) for review and approval in accordance with the Paperwork Reduction Act (PRA). Before doing so, the EPA is soliciting public comments on specific aspects of the proposed information collection as described below. This is a proposed extension of the ICR, which is currently approved through March 31, 2024. This document allows for 60 days for public comments.

DATES: Comments must be received on or before November 13, 2023.

ADDRESSES: Submit your comments, referencing Docket ID Number EPA-R08-OAR-2023-0412, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Adam Eisele, U.S. Environmental Protection Agency, Region 8, Air and Radiation Division, (Mail Code 8ARD-PM), 1595 Wynkoop Street, Denver, Colorado 80202-1129, telephone number: (303) 312-6246, email address: eisele.adam@epa.gov.

SUPPLEMENTARY INFORMATION: This is a proposed extension of the ICR, which is currently approved through March 31, 2024. An agency may not conduct, or sponsor and a person is not required to respond to a collection of information unless it displays a currently valid OMB control number.

This document allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register document to announce the submission of the ICR to OMB and the opportunity to submit additional comments to OMB.

Abstract: This ICR covers information collection requirements in the final Federal Implementation Plan (FIP) for Oil and Natural Gas Well Production Facilities; Fort Berthold Indian Reservation (Mandan, Hidatsa, and Arikara Nation), North Dakota (40 CFR part 49, subpart K, §§ 49.4161 through 49.4168), herein referred to as the FBIR FIP. In general, owners or operators are required to: (1) conduct certain monitoring; (2) keep specific records to be made available at the EPA's request; and (3) to prepare and submit an annual report (40 CFR part 49, subpart K, §§ 49.4166 through 49.4168). These records and reports are necessary for the EPA Administrator (or the tribal agency if delegated), for example, to: (1) confirm compliance status of stationary sources; (2) identify any stationary sources not subject to the requirements and identify stationary sources subject to the regulations; and (3) ensure that the stationary source control requirements are being achieved. All information submitted to us pursuant to the recordkeeping and reporting requirements for which a claim of confidentiality is made is safeguarded according to the agency policies set forth in 40 CFR part 2, subpart B.

Form numbers: None.

Respondents/affected entities: Owners or operators of oil and natural gas well production facilities on the Fort Berthold Indian Reservation (Mandan, Hidatsa, and Arikara Nation), North Dakota.

Respondent's obligation to respond: Mandatory (42 U.S.C. 7414).

Estimated number of respondents: 3,002 (total).

Frequency of response: Annually.

Total estimated burden: 137,279 hours (per year). Burden is defined at 5 CFR 1320.03(b).

Total estimated cost: $52,619,019 (per year), which includes $43,453,950 annualized capital and operation and maintenance costs.

Changes in the estimates: There is an increase of 25,343 hours in the total estimated respondent burden compared with the ICR currently approved by OMB. This increase is due to anticipated industry growth projected to occur over the next 3-year period of this ICR.

Dated: September 5, 2023.
KC Becker,
Regional Administrator, Region 8.

[FR Doc. 2023-19776 Filed 9-12-23; 8:45 am]

BILLING CODE 6560-50-P